DEPARTMENT OF TRANSPORTATION

Federal Aviation Administration

14 CFR Part 39

[Docket No. 2000-NM-70-AD; Amendment 39-13954; AD 2005-02-09]

RIN 2120-AA64

Airworthiness Directives; Airbus Model A319, A320, and A321 Series Airplanes

AGENCY: Federal Aviation Administration (FAA), Department of Transportation (DOT).

ACTION: Final rule.

SUMMARY: This amendment adopts a new airworthiness directive (AD), applicable to all Airbus Model A319, A320, and A321 series airplanes, that requires operators to revise the Airworthiness Limitations section (ALS) of the Instructions for Continued Airworthiness to incorporate new and more restrictive service life limits for certain items, and new and more restrictive inspections to detect fatigue cracking, accidental damage, or corrosion in certain structures. The actions specified by this AD are intended to ensure the continued structural integrity of these airplanes. This action is intended to address the identified unsafe condition.

DATES: Effective March 3, 2005.

ADDRESSES: The service information referenced in this AD may be obtained from Airbus, 1 Rond Point Maurice Bellonte, 31707 Blagnac Cedex, France. This information may be examined at the Federal Aviation Administration (FAA), Transport Airplane Directorate, Rules Docket, 1601 Lind Avenue, SW., Renton, Washington 98055-4056.

FOR FURTHER INFORMATION CONTACT: Tim Dulin, Aerospace Engineer, International Branch, ANM-116, FAA, Transport Airplane Directorate, 1601 Lind Avenue, SW., Renton, Washington 98055-4056; telephone (425) 227-2141; fax (425) 227-1149.

SUPPLEMENTARY INFORMATION: A proposal to amend part 39 of the Federal Aviation Regulations (14 CFR part 39) to include an airworthiness directive (AD) that is applicable to all Airbus Model A319, A320, and A321 series airplanes was published as a supplemental notice of proposed rulemaking (NPRM) in the Federal Register on March 11, 2004 (69 FR 11558). That action proposed to require operators to revise the ALS of the Instructions for Continued Airworthiness to incorporate new and more restrictive service life limits for certain items, and new and more restrictive inspections to detect fatigue cracking, accidental damage, or corrosion in certain structures.

Comments

Interested persons have been afforded an opportunity to participate in the making of this amendment. Due consideration has been given to the comments received.

Request To Change Paragraph (a)

One commenter asks that the FAA either approve Airbus Service Information Letter (SIL) 32-098, dated December 22, 2003, as a method for assigning accumulated life on parts not previously tracked, or provide another method for tracking these parts in paragraph (a) of the proposed AD. The commenter notes that incorporation of Revision 06 of ALS sub-Sections 9-1-2 and 9-1-3 of the Maintenance Planning Document (MPD) would require incorporation of Airbus SIL 32-098, as specified in Section 9-1, “Life Limits/Monitored Parts,” of the MPD. The commenter adds that certain information contained in the SIL was not approved by the Direction Générale de l'Aviation Civile (DGAC), which is the airworthiness authority for France, that would probably necessitate FAA approval of an alternative method of compliance (AMOC).

We agree with the commenter for the reasons provided. We have added a new Note 1 to the final rule to specify that Airbus SIL 32-098 may be used as a source of service information for managing life-limited and demonstrated fatigue life parts that were not previously tracked. Additionally, under the provisions of paragraph (e) of the final rule, we may approve requests for other methods for assigning accumulated life on life-limited and demonstrated fatigue life parts that were not previously tracked if data are submitted to substantiate that such other methods would provide an acceptable level of safety.

Requests for Changes to Compliance Times

One commenter asks that the compliance time specified in paragraph (a) of the proposed AD be changed, but the commenter does not suggest a new compliance time. The commenter states that paragraph (a) of the proposed AD requires the revision of the ALS on “Life Limits/Monitored Parts,” and “Demonstrated Fatigue Life Parts,” within 2 months after the effective date of the AD. The commenter notes that this would require the tracking, assignment of accumulated life, if unknown, and serialization/marking of parts if not serialized. The commenter adds that this date cannot be achieved, for the following reasons:

• The incorporation of Revision 06 of ALS sub-Sections 9-1-2 and 9-1-3 of the MPD would require incorporation of Airbus SIL 32-098, as specified in Section 9-1, “Life Limits/Monitored Parts,” of the MPD when the complete life history of a part is unknown.

• There are a number of items that were not tracked in the original certification of the airplane, and detailed information about these items was not provided by the manufacturer after production.

• Airbus Operator Information Telex SE999.0072/03/CL indicates the subject SIL was available in September 2003, but the SIL was not available until December 2003, so operators were not able to start the investigation immediately.

• The SIL refers to five service bulletins needed for serialization/marking of certain in-service parts. Four of the five bulletins are not yet available; therefore, operators would not have the proper instructions to serialize/mark in-service parts.

We agree with the commenter that all the documents necessary to manage parts not previously tracked were not available at the time of publication of the proposed AD; we also agree that more time is necessary to manage those parts (track and assign accumulated life). Therefore, for those reasons, we have changed the compliance time specified in paragraph (a) of the final rule from 2 months to 6 months. In addition, we have verified that the five service bulletins referenced in the SIL have since been issued, and that proper instructions to manage parts not previously tracked are now available.

The same commenter asks that the compliance time specified in paragraph (b) of the proposed AD be changed from 2 months to 6 months. The commenter states that paragraph (b) would require the revision of the ALS on Airworthiness Limitation Items (ALI) within 2 months after the effective date of the AD. The commenter adds that this date cannot be achieved for the following reasons:

• Revision 06 of the MPD, sub-Section 9-2, introduced weight variants to determine effectivity that would require more time to ensure the proper tracking of ALI tasks relative to existing Significant Structural Items.

• Revision 06 of the MPD, sub-Section 9-2, lowered the inspection threshold of certain ALI tasks. There may be airplanes in service that already exceed the new reduced thresholds and some of these inspections cannot be easily accomplished when airplanes are outside maintenance checks. Neither the MPD nor the proposed AD provided any clear instructions for the phase-in of those inspections should airplanes have already exceeded the new, reduced inspection threshold.

We have reviewed and agree with the commenter's supporting data, and we have changed the compliance time specified in paragraph (b) of the final rule from 2 months to 6 months. Extending the compliance time allows operators more time to determine weight variant effectivity, and time to phase in any inspections that have exceeded the new or revised inspection thresholds and intervals since the ALS revisions were issued. In addition, we agree that some provision for phase-in of future revisions of the ALS that may introduce more restrictive life limits or inspections is necessary. We have requested that Airbus add phase-in criteria to future revisions of the ALS to avoid potential problems with complying with new or revised inspection thresholds and intervals.

Credit for Accomplishing Repetitive Ultrasonic Inspections in Related AD

Two commenters request that we approve incorporation of Issue 6 of the ALI as an acceptable AMOC for accomplishing the ultrasonic inspections required by AD 2004-03-06, amendment 39-13450 (69 FR 5909, February 9, 2004). The commenters note that ALI tasks 571170-01-1 and -2 specify the same ultrasonic inspection of the wing/fuselage joint cruciform fittings that is required by AD 2004-03-06, but at a different threshold and interval. The commenters add that there is a conflict between the inspection threshold and intervals in this proposed AD and between the inspection threshold and interval for the same inspection required by AD 2004-03-06.

We agree with the commenters that there is a conflict, as stated above. Although AD 2004-03-06 was not referenced in the proposed AD, it is a related AD which requires repetitive ultrasonic inspections for fatigue cracking in the wing/fuselage joint cruciform fittings. We have determined that the inspection threshold and repetitive interval in Issue 6 of the ALI should be used as the appropriate threshold and repetitive interval for the inspection in this final rule. Therefore, we have added a new paragraph (c) to this final rule, as follows: “For Model A319 and A320 series airplanes: Accomplishing the approved revision of the ALS specified in paragraph (b) of this AD terminates the repetitive inspections required by paragraphs (b) and (c) of AD 2004-03-06.” We have re-numbered subsequent paragraphs accordingly.

Clarification of Paragraph (b)

One commenter asks for clarification that the revision of the ALS, as specified in paragraph (b) of the proposed AD, must be done in accordance with only Airbus A318/A319/A320/A321 ALI AI/SE-M4/95A.0252/96, Issue 6, dated May 15, 2003 (approved by the DGAC on July 15, 2003). The commenter states that Revision 06 of the MPD dated June 13, 2003, did not revise sub-Section 9-2.

We agree that Revision 06 of the MPD did not revise sub-Section 9-2. This AD specifies incorporation of both MPD sub-Section 9-2, Revision 06, and Airbus ALI AI/SE-M4/95A.0252/96, Issue 6, dated May 15, 2003; MPD sub-Section 9-2 references Airbus ALI AI/SE-M4/95A.0252/96 as the official repository for the ALI; both documents need to be incorporated to avoid any confusion. In addition, we have determined that the references in both paragraphs (a) and (b) of this final rule need clarification. The reference to incorporating into the ALS sub-Section 9-1-2 and sub-Section 9-1-3, as specified in paragraph (a) of the proposed AD, is the wrong reference and should instead specify incorporating Airbus A318/A319/A320/A321 MPD, sub-Section 9-1-2 and sub-Section 9-1-3. Additionally, an incorrect title was used in the proposed AD for sub-Section 9-1-2, “Life Limits/Monitored Parts.” That title should be “Life Limited Parts.” We have corrected that title in this final rule. The reference to incorporating into the ALS sub-Section 9-2, as specified in paragraph (b) of the proposed AD, is the wrong reference and should instead reference incorporating Airbus A318/A319/A320/A321 MPD, sub-Section 9-2.

Change to Final Rule

We have changed paragraphs (a) and (b) of this final rule to specify that the actions must be done in accordance with a method approved by the Manager, International Branch, ANM-116, Transport Airplane Directorate, FAA; or the DGAC (or its delegated agent). In addition, incorporating Airbus A318/A319/A320/A321 Maintenance Planning Document (MPD), sub-Section 9-1-2, “Life Limited Parts,” and sub-Section 9-1-3, “Demonstrated Fatigue Life Parts,” and Airbus A318/A319/A320/A321 MPD, sub-Section 9-2, “Airworthiness Limitation Items,” are listed as approved methods of compliance for accomplishing the actions. We have also changed paragraph (d) of this final rule to remove the reference to paragraphs (a) and (b) due to this change.

Conclusion

After careful review of the available data, including the comments noted above, we have determined that air safety and the public interest require the adoption of the rule with the changes previously described. We have determined that these changes will neither increase the economic burden on any operator nor increase the scope of the AD.

Cost Impact

There are approximately 605 airplanes of U.S. registry affected by this AD. It takes approximately 1 work hour per airplane to accomplish the revision to the ALS, at an average labor rate of $65 per work hour. Based on these figures, the cost impact of the AD on U.S. operators is estimated to be $39,325, or $65 per airplane.

The cost impact figure discussed above is based on assumptions that no operator has yet accomplished any of the requirements of this AD action, and that no operator would accomplish those actions in the future if this AD were not adopted. The cost impact figures discussed in AD rulemaking actions represent only the time necessary to perform the specific actions actually required by the AD. These figures typically do not include incidental costs, such as the time required to gain access and close up, planning time, or time necessitated by other administrative actions.

Authority for This Rulemaking

The FAA's authority to issue rules regarding aviation safety is found in Title 49 of the United States Code. Subtitle I, Section 106, describes the authority of the FAA Administrator. Subtitle VII, Aviation Programs, describes in more detail the scope of the agency's authority.

This rulemaking is promulgated under the authority described in Subtitle VII, Part A, Subpart III, Section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this AD.

Regulatory Findings

We have determined that this AD will not have federalism implications under Executive Order 13132. This AD will not have a substantial direct effect on the States, on the relationship between the national government and the States, or on the distribution of power and responsibilities among the various levels of government.

For the reasons discussed above, I certify that this action (1) is not a “significant regulatory action” under Executive Order 12866; (2) is not a “significant rule” under DOT Regulatory Policies and Procedures (44 FR 11034, February 26, 1979); and (3) will not have a significant economic impact, positive or negative, on a substantial number of small entities under the criteria of the Regulatory Flexibility Act. A final evaluation has been prepared for this action and it is contained in the Rules Docket. A copy of it may be obtained from the Rules Docket at the location provided under the caption ADDRESSES.

List of Subjects in 14 CFR Part 39

Air transportation, Aircraft, Aviation safety, Safety.

Adoption of the Amendment

Accordingly, pursuant to the authority delegated to me by the Administrator, the Federal Aviation Administration amends part 39 of the Federal Aviation Regulations (14 CFR part 39) as follows:

PART 39—AIRWORTHINESS DIRECTIVES

1. The authority citation for part 39 continues to read as follows:

Authority: 49 U.S.C. 106(g), 40113, 44701.

§ 39.13 [Amended]

2. Section 39.13 is amended by adding the following new airworthiness directive:

2005-02-09 Airbus: Amendment 39-13954. Docket 2000-NM-70-AD.

Applicabilty: All Model A319, A320, and A321 series airplanes; certificated in any category.

Compliance: Required as indicated, unless accomplished previously.

To ensure continued structural integrity of these airplanes, accomplish the following:

Revise Airworthiness Limitations Section (ALS)

(a) For all airplanes: Within 6 months after the effective date of this AD, revise the ALS of the Instructions for Continued Airworthiness in accordance with a method approved by the Manager, International Branch, ANM-116, Transport Airplane Directorate, FAA; or the Direction Generale de l'Aviation Civile (DGAC) (or its delegated agent). One approved method of compliance is incorporating Airbus A318/A319/A320/A321 Maintenance Planning Document (MPD), sub-Section 9-1-2, “Life Limited Parts,” and sub-Section 9-1-3, “Demonstrated Fatigue Life Parts,” both Revision 06, both dated June 13, 2003.

Note 1: Airbus Service Information Letter 32-098, dated December 22, 2003, may be used as a source of service information for managing life limited and demonstrated fatigue life parts that were not previously tracked.

(b) For all airplanes except Model A319 series airplanes on which Airbus Modification 28238, 28162, and 28342 was incorporated during production: Within 6 months after the effective date of this AD, revise the ALS of the Instructions for Continued Airworthiness in accordance with a method approved by the Manager, International Branch, ANM-116; or the DGAC (or its delegated agent). One approved method of compliance is incorporating both Airbus A318/A319/A320/A321 MPD, sub-Section 9-2, “Airworthiness Limitation Items” (ALI), Revision 06, dated June 13, 2003; and Airbus A318/A319/A320/A321 ALI, AI/SE-M4/95A.0252/96, Issue 6, dated May 15, 2003 (approved by the DGAC on July 15, 2003).

(c) For Model A319 and A320 series airplanes: Accomplishing the approved revision of the ALS specified in paragraph (b) of this AD terminates the repetitive inspections required by paragraphs (b) and (c) of AD 2004-03-06, amendment 39-13450.

(d) Except as provided by paragraph (e) of this AD: After the actions specified in paragraphs (a) and (b) of this AD have been accomplished, no alternative life limits, inspections, or inspection intervals may be used.

Alternative Methods of Compliance

(e) In accordance with 14 CFR 39.19, the Manager, International Branch, ANM-116, is authorized to approve alternative methods of compliance for this AD.

Note 2: The subject of this AD is addressed in French airworthiness directive F-2004-018, dated February 4, 2004; and in French airworthiness directive F-2004-032, dated February 18, 2004.

Effective Date

(f) This amendment becomes effective on March 3, 2005.

Issued in Renton, Washington, on January 18, 2005.
Ali Bahrami,
Manager, Transport Airplane Directorate, Aircraft Certification Service.

[FR Doc. 05-1514 Filed 1-26-05; 8:45 am]

BILLING CODE 4910-13-P